FEDERAL COMMUNICATIONS COMMISSION

47 CFR Parts 1, 2 and 87

[WT Docket No. 01-289; FCC 10-103]

Aviation Communications

AGENCY: Federal Communications Commission.

ACTION: Final rule.

SUMMARY: In this document, the Federal Communications Commission (Commission or FCC) addresses a number of important issues pertaining to the Aviation Radio Services, amending its rules in the interest of accommodating the communications needs of the aviation community to the greatest possible extent, and ensuring that aeronautical spectrum is used efficiently to enhance the safety of flight.

DATES: Effective May 31, 2011.

FOR FURTHER INFORMATION CONTACT: Jeffrey Tobias, Jeff.Tobias@FCC.gov, Mobility Division, Wireless Telecommunications Bureau, (202) 418-1617, or TTY (202) 418-7233.

SUPPLEMENTARY INFORMATION: This is a summary of the Federal Communications Commission's Third Report and Order (Third R&O), in WT Docket No. 01-289, FCC 10-103, adopted on June 1, 2010, and released on June 15, 2010. Contemporaneous with this document, the Commission issues an Order that stays a rule that was adopted in the Third R&O (published elsewhere in this publication). The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The Third Report and Order addresses issues raised in the Second Further Notice of Proposed Rule Making (Second FNPRM) in this WT Docket No. 01-289 proceeding. The Commission takes the following significant actions in the Third R&O: (i) Deletes the secondary allocation of the 117.975-136 MHz aeronautical frequency band for Aeronautical Mobile Satellite (Route) Service (AMS(R)S); (ii) permits the use of 8.33 kHz channel spacing in the aeronautical enroute service and by flight test stations; (iii) removes one of the four frequencies designated for Flight Information Services—Broadcast (FIS-B); (iv) permits the use of specified frequencies for air-to-air communications in Hawaii; (v) permits the use of specified frequencies for air-to-air communications in the Los Angeles area; (vi) clarifies the applicability of the one-unicom-per-airport rule; and (vii) permits the filing of applications to assign or transfer control of aircraft station licenses. In addition in this Third R&O, the Commission adopts a rule prohibiting the certification, manufacture, importation, sale, or continued use of 121.5 MHz emergency locator transmitters (ELTs) other than the Breitling Emergency Watch ELT, but, in a separate order, the Commission stays the effective date of this rule indefinitely.

I. Procedural Matters

A. Paperwork Reduction Act Analysis

2. The Third R&O does not contain any new or modified information collection requirements subject to the Paperwork Reduction Act of 1995 (PRA), Public Law 104-13. Neither, does it contain any new or modified “information collection burden for small business concerns with fewer than 25 employees,” pursuant to the Small Business Paperwork Relief Act of 2002, Public Law 107-198, see 44 U.S.C. 3506(c)(4).

B. Report to Congress

3. The Commission will send a copy of this Third R&O in a report to Congress and the Government Accountability Office pursuant to the Congressional Review Act, see 5 U.S.C. 801(a)(1)(A).

C. Final Regulatory Flexibility Analysis

4. As required by the Regulatory Flexibility Act of 1980, as amended (RFA), an Initial Regulatory Flexibility Analysis (IRFA) was incorporated in the Second FNPRM in this proceeding. The Commission sought written public comment on the proposals in the Second FNPRM, including comment on the IRFA. This present Final Regulatory Flexibility Analysis (FRFA) conforms to the RFA.

Need for, and Objectives of, the Third Report and Order

5. The rules adopted in the Third R&O are intended to ensure that the Commission's part 87 rules governing the Aviation Radio Service remain up-to-date and continue to further the Commission's goals of accommodating new technologies, facilitating the efficient and effective use of the aeronautical spectrum, avoiding unnecessary regulation, and, above all, enhancing the safety of flight. Specifically, in the Third R&O, the Commission (a) deletes the secondary allocation of the 117.975-136 MHz aeronautical frequency band for Aeronautical Mobile Satellite (Route) Service (AMS(R)S); (b) permits the use of 8.33 kHz channel spacing in the aeronautical enroute service and by flight test stations; (c) removes one of the four frequencies designated for Flight Information Services—Broadcast (FIS-B); (d) permits the use of specified frequencies for air-to-air communications in Hawaii; (e) permits the use of specified frequencies for air-to-air communications in the Los Angeles area; (f) clarifies the applicability on the one-unicom-per-airport rule; (g) permits the filing of applications to assign or transfer aircraft station licenses; and (h) prohibits the certification, manufacture, importation, sale, or continued use of 121.5 MHz emergency locator transmitters (ELTs) other than the Breitling Emergency Watch ELT. In a separate order, the Commission stays the effective date of the rule prohibiting the certification, manufacture, importation, sale, or continued use of 121.5 MHz ELTs.

Summary of Significant Issues Raised by Public Comments in Response to the IRFA

6. No comments were submitted specifically in response to the IRFA. Nonetheless, we have considered the potential economic impact on small entities of the rules discussed in the IRFA, and we have considered alternatives that would reduce the potential economic impact on small entities of the rules enacted herein.

Description and Estimate of the Number of Small Entities to Which Rules Will Apply

7. The RFA directs agencies to provide a description of and, where feasible, an estimate of the number of small entities that may be affected by the rules adopted herein. The RFA defines the term “small entity” as having the same meaning as the terms “small business,” “small organization,” and “small governmental jurisdiction.” In addition, the term “small business” has the same meaning as the term “small business concern” under the Small Business Act.. A small business concern is one which: (1) Is independently owned and operated; (2) is not dominant in its field of operation; and (3) satisfies any additional criteria established by the Small Business Administration (SBA).

8. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this FRFA, therefore, the applicable definition of small entity is the definition under the SBA rules applicable to wireless service providers. Since 2007, the Census Bureau has placed wireless firms within this new, broad, economic census category. Prior to that time, such firms were within the now-superseded categories of “Paging” and “Cellular and Other Wireless Telecommunications.” Under the present and prior categories, the SBA has deemed a wireless business to be small if it has 1,500 or fewer employees. Because Census Bureau data are not yet available for the new category, we will estimate small business prevalence using the prior categories and associated data. For the category of Paging, data for 2002 show that there were 807 firms that operated for the entire year. Of this total, 804 firms had employment of 999 or fewer employees, and three firms had employment of 1,000 employees or more. For the category of Cellular and Other Wireless Telecommunications, data for 2002 show that there were 1,397 firms that operated for the entire year. Of this total, 1,378 firms had employment of 999 or fewer employees, and 19 firms had employment of 1,000 employees or more. Thus, we estimate that the majority of wireless firms are small.

9. Some of the rules adopted herein may also affect small businesses that manufacture aviation radio equipment. The Commission has not developed a definition of small entities applicable to aviation radio equipment manufacturers. Therefore, the applicable definition is that for Radio and Television Broadcasting and Wireless Communications Equipment Manufacturers. The Census Bureau defines this category as follows: “This industry comprises establishments primarily engaged in manufacturing radio and television broadcast and wireless communications equipment. Examples of products made by these establishments are: transmitting and receiving antennas, cable television equipment, GPS equipment, pagers, cellular phones, mobile communications equipment, and radio and television studio and broadcasting equipment.” The SBA has developed a small business size standard for Radio and Television Broadcasting and Wireless Communications Equipment Manufacturing, which is: All such firms having 750 or fewer employees. According to Census Bureau data for 2002, there were a total of 1,041 establishments in this category that operated for the entire year. Of this total, 1,010 had employment of under 500, and an additional 13 had employment of 500 to 999. Thus, under this size standard, the majority of firms can be considered small.

Description of Projected Reporting, Recordkeeping, and Other Compliance Requirements for Small Entities

10. The Third R&O does not impose any additional reporting, recordkeeping, or other compliance requirements on small entities.

Steps Taken To Minimize the Significant Economic Impact on Small Entities, and Significant Alternatives Considered

11. The RFA requires an agency to describe any significant alternatives that it has considered in developing its approach, which may include the following four alternatives (among others): “(1) The establishment of differing compliance or reporting requirements or timetables that take into account the resources available to small entities; (2) the clarification, consolidation, or simplification of compliance and reporting requirements under the rule for such small entities; (3) the use of performance rather than design standards; and (4) an exemption from coverage of the rule, or any part thereof, for such small entities.”

12. As explained in section D of this FRFA, above, the Third R&O does not impose any additional reporting, recordkeeping, or other compliance requirements on small entities. In the IRFA accompanying the Second FNPRM, the Commission identified two measures that it was considering that might conceivably impose significant new compliance burdens on small entities: (1) The adoption of rules requiring that mobile satellite systems accord priority and preemptive access to AMS(R)S communications in additional frequency bands, including the 1.6 MHz, 2 MHz, and 5 MHz frequency bands, and (2) the adoption of rules mandating a transition to 8.33 kHz channel spacing in the aeronautical enroute service. In the Third R&O, however, the Commission does not adopt either of these requirements. The Commission has determined to defer addressing the possibility of requiring MSS licensees to accord priority and preemptive access to AMS(R)S communications in additional frequency bands until other matters pertaining to MSS licensees are addressed in other proceedings. In addition, the Commission has decided not to mandate that the aeronautical enroute service transition to 8.33 kHz channel spacing, but only to allow such a transition to 8.33 kHz channel spacing in the aeronautical enroute (and flight test station) service on a permissive basis. Finally, as noted, the Commission determined in the IRFA accompanying the Second FNPRM that none of the other rule changes under consideration would impose any new compliance burden on any entity, and there is nothing in the record to undermine that conclusion. In sum, none of the rule changes adopted in the Third R&O imposes a new compliance burden on any entity.

F. Report to Congress

13. The Commission will send a copy of this Third R&O in WT Docket No. 01-289, including the Final Regulatory Flexibility Analysis, in a report to be sent to Congress pursuant to the Congressional Review Act. In addition, the Commission will send a copy of the Third R&O, including the Final Regulatory Flexibility Analysis, to the Chief Counsel for Advocacy of the SBA. A copy of the Third R&O and the Final Regulatory Flexibility Analysis (or summaries thereof) will also be published in the Federal Register.

List of Subjects

47 CFR Part 1

Administrative practice and procedure, Radio.

47 CFR Part 2

Radio.

47 CFR Part 87

Air transportation, Communications equipment, Radio.

Federal Communications Commission.
Marlene H. Dortch,
Secretary.

Rule Changes

For the reasons discussed in the preamble, the Federal Communications Commission amends 47 CFR parts 1, 2 and 87 as follows:

PART 1—PRACTICE AND PROCEDURE

1. The authority citation for part 1 continues to read as follows:

Authority: 15 U.S.C. 79 et seq.; 47 U.S.C. 151, 154(i), 154(j), 155, 157, 225, 303(r), and 309.

2. Amend § 1.948 by revising paragraph (b)(5) to read as follows:

§ 1.948 Assignment of authorization or transfer of control, notification of consummation.

* * * * *

(b)(5) Licenses, permits, and authorizations for stations in the Amateur, Ship, Commercial Operator and Personal Radio Services (except 218-219 MHz Service) may not be assigned or transferred, unless otherwise stated.

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Amend § 2.106, by revising page 20 of the Table of Frequency Allocations, and by adding footnote US36 to the list of United States (U.S.) Footnotes to read as follows.

§ 2.106 Table of frequency allocations.

* * * * *

BILLING CODE 6712-01-P

BILLING CODE 6712-01-C

United States (U.S.) Footnotes

* * * * *

US36 In Hawaii, the bands 120.647-120.653 MHz and 127.047-127.053 MHz are also allocated to the aeronautical mobile service on a primary basis for non-Federal aircraft air-to-air communications on 120.65 MHz (Maui) and 127.05 MHz (Hawaii and Kauai) as specified in 47 CFR 87.187.

* * * * *

PART 87—AVIATION SERVICES

5. The authority citation for part 87 continues to read as follows:

Authority: 47 U.S.C. 154, 303 and 307(e), unless otherwise noted.

6. Amend § 87.133 by revising paragraph (a) introductory text and by adding paragraph (g) to read as follows:

§ 87.133 Frequency stability.

(a) Except as provided in paragraphs (c), (d), (f), and (g) of this section, the carrier frequency of each station must be maintained within these tolerances:

* * * * *

(g) Any aeronautical enroute service transmitter operating in U.S. controlled airspace with 8.33 kHz channel spacing (except equipment being tested by avionics equipment manufacturers and flight test stations prior to delivery to their customers for use outside U.S. controlled airspace) must achieve 0.0005% frequency stability when operating in that mode.

7. Amend § 87.137 by revising footnote 17 in paragraph (a) to read as follows:

§ 87.137 Types of emission.

(a) * * *

¹⁷ In the band 117.975-137 MHz, the Commission will not authorize any 8.33 kHz channel spaced transmissions or the use of their associated emission designator within the U.S. National Airspace System, except, on an optional basis, by Aeronautical Enroute Stations and Flight Test Stations, or by avionics equipment manufacturers which are required to perform installation and checkout of such radio systems prior to delivery to their customers. For transmitters certificated to tune to 8.33 kHz channel spacing as well as 25 kHz channel spacing, the authorized bandwidth is 8.33 kHz when tuned to an 8.33 kHz channel.

* * * * *

§ 87.171 [Amended]

8. Amend § 87.171 by removing the entry “FAP-Civil Air Patrol.”

9. Amend § 87.173 by removing the entry for “72.020-75.980 MHz,” adding entries for “72.02-72.98 MHz” and “75.42-75.98 MHz,” revising the entries for “118.00-121.400,” “121.500 MHz,” “121.975 MHz,” “122.025 MHz,” “122.075 MHz,” “123.6-128.8 MHz,” “128.825-132.000 MHz,” “132.025-135.975 MHz,” “136.500-136.875 MHz,” and “406.0-406.1 MHz” in the table in paragraph (b) to read as follows:

§ 87.173 Frequencies.

* * * * *

(b) Frequency table:

Frequency or frequency band | Subpart | Class of station | Remarks
72.02-72.98 MHz | P | FA, AXO | Operational fixed.
75.42-75.98 MHz | P | FA, AXO | Operational fixed.
* * * * * * *
118.000-121.400 MHz | O, S | MA, FAC, FAW, GCO RCO, RPC | 25 kHz channel spacing
* * * * * * *
121.500 MHz | G, H, I, J, K, M, O | MA, FAU, FAE, FAT, FAS, FAC, FAM | Emergency and distress.
* * * * * * *
121.975 MHz | F, S | MA2, FAW, FAC, MOU | Air traffic control operations.
* * * * * * *
122.025 MHz | F, S | MA2, FAW, FAC, MOU | Air traffic control operations.
* * * * * * *
122.075 MHz | F, S | MA2, FAW, FAC, MOU | Air traffic control operations.
* * * * * * *
123.6-128.8 MHz | O, S | MA, FAC, FAW, GCO, RCO, RPC | 25 kHz channel spacing.
128.825-132.000 | I | MA, FAE | Domestic VHF.
132.025-135.975 MHz | O, S | MA, FAC, FAW, GCO RCO RPC | 25 kHz channel spacing.
* * * * * * *
136.500-136.875 MHz | I | MA, FAE | Domestic VHF.
* * * * * * *
406.0-406.1 MHz | F, G, H, I, J, K, M, O | MA, FAU, FAE, FAT, FAS, FAC, FAM | Emergency and distress.
* * * * * * *

* * * * *

10. Amend § 87.187 by revising paragraphs (cc) and (dd), and by adding new paragraphs (gg) and (hh) to read as follows:

§ 87.187 Frequencies.

* * * * *

(cc) The frequency 120.650 MHz ¹ is authorized for air-to-air use for aircraft up to and including 3 km (10,000 ft) mean sea level within the area bounded by the following coordinates (all coordinates are referenced to North American Datum 1983 (NAD83)):

35-59-44.9 N. Lat; 114-51-48.0 W. Long.

36-09-29.9 N. Lat; 114-50-3.0 W. Long.

36-09-29.9 N. Lat; 114-02-57.9 W. Long.

35-54-45.0 N. Lat; 113-48-47.8 W. Long.

(dd) The frequencies 136.425, 136.450, and 136.475 MHz are designated for flight information services—broadcast (FIS-B) and may not be used by aircraft for transmission.

* * * * *

(gg) (1) The frequency 120.650 MHz is authorized for air-to-air communications for aircraft over and within five nautical miles of the shoreline of the Hawaiian Island of Maui.

(2) The frequency 121.950 MHz is authorized for air-to-air use for aircraft over and within five nautical miles of the shoreline of the Hawaiian Island of Molokai.

(3) The frequency 122.850 MHz is authorized for air-to-air use for aircraft over and within five nautical miles of the shoreline of the Hawaiian Island of Oahu.

(4) The frequency 122.850 MHz is authorized for aircraft over and within five nautical miles of the shoreline of the Hawaiian Island of Hawaii when aircraft are south and east of the 215 degree radial of very high frequency omni-directional radio range of Hilo International Airport.

(5) The frequency 127.050 MHz is authorized for air-to-air use for aircraft over and within five nautical miles of the shoreline of the Hawaiian Island of Hawaii when aircraft are north and west of the 215 degree radial of very high frequency omni-directional radio range of Hilo International Airport.

(6) The frequency 127.050 MHz is authorized for air-to-air use for aircraft over and within five nautical miles of the Hawaiian Island of Kauai.

(hh) (1) The frequency 121.95 MHz is authorized for air-to-air communications for aircraft within the area bounded by the following coordinates (all coordinates are referenced to North American Datum 1983 (NAD83)):

33-46-00 N. Lat.; 118-27-00 W. Long.

33-47-00 N. Lat.; 118-12-00 W. Long.

33-40-00 N. Lat.; 118-00-00 W. Long.

33-35-00 N. Lat.; 118-08-00 W. Long.

34-00-00 N. Lat.; 118-26-00 W. Long.

(2) The frequency 122.775 MHz is authorized for air-to-air communications for aircraft within the area bounded by the following coordinates (all coordinates are referenced to North American Datum 1983 (NAD83)):

34-22-00 N. Lat.; 118-30-00 W. Long.

34-35-00 N. Lat.; 118-15-00 W. Long.

34-27-00 N. Lat.; 118-15-00 W. Long.

34-16-00 N. Lat.; 118-35-00 W. Long.

34-06-00 N. Lat.; 118-35-00 W. Long.

34-05-00 N. Lat.; 118-50-00 W. Long.

(3) The frequency 123.30 MHz is authorized for air-to-air communications for aircraft within the area bounded by the following coordinates (all coordinates are referenced to North American Datum 1983 (NAD83)):

34-08-00 N. Lat.; 118-00-00 W. Long.

34-10-00 N. Lat.; 117-08-00 W. Long.

34-00-00 N. Lat.; 117-08-00 W. Long.

33-53-00 N. Lat.; 117-42-00 W. Long.

33-58-00 N. Lat.; 118-00-00 W. Long.

(4) The frequency 123.50 MHz is authorized for air-to-air communications for aircraft within the area bounded by the following coordinates (all coordinates are referenced to North American Datum 1983 (NAD83)):

33-53-00 N. Lat.; 117-37-00 W. Long.

34-00-00 N. Lat.; 117-15-00 W. Long.

34-00-00 N. Lat.; 117-07-00 W. Long.

33-28-00 N. Lat.; 116-55-00 W. Long.

33-27-00 N. Lat.; 117-12-00 W. Long.

(5) The frequency 123.50 MHz is authorized for air-to-air communications for aircraft within the area bounded by the following coordinates (all coordinates are referenced to North American Datum 1983 (NAD83)):

33-50-00 N. Lat.; 117-48-00 W. Long.

33-51-00 N. Lat.; 117-41-00 W. Long.

33-38-00 N. Lat.; 117-30-00 W. Long.

33-30-00 N. Lat.; 117-30-00 W. Long.

33-30-00 N. Lat.; 117-49-00 W. Long.

11. Amend § 87.195 by revising the section heading, and by adding introductory text to read as follows:

§ 87.195 Prohibition of 121.5 MHz ELTs.

The manufacture, importation, sale or use of 121.5 MHz ELTs is prohibited.

* * * * *

12. Amend § 87.199 by revising paragraph (a) to read as follows:

§ 87.199 Special requirements for 406.0-406.1 MHz ELTs.

(a) 406.0-406.1 ELTs use G1D emission. Except for the spurious emission limits specified in § 87.139(h), 406.0-406.1 MHz ELTs must meet all the technical and performance standards contained in the Radio Technical Commission for Aeronautics document titled “Minimum Operational Performance Standards 406 MHz Emergency Locator Transmitters (ELT)” Document No. RTCA/DO-204 dated September 29, 1989. The Director of the Federal Register approves this incorporation by reference in accordance with 5 U.S.C. 552(a) and 1 CFR part 51. Copies of this standard can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html. Copies of the RTCA standards also may be obtained from the Radio Technical Commission of Aeronautics, One McPherson Square, 1425 K Street, NW., Washington, DC 20005.

* * * * *

13. Amend § 87.215 by revising paragraphs (b) and (f) to read as follows:

§ 87.215 Supplemental eligibility.

* * * * *

(b) Only one unicom will be authorized to operate at an airport which does not have a control tower, RCO or FAA flight service station that operates on the published common traffic advisory frequency. At any other airport, the one unicom limitation does not apply, and the airport operator and all aviation services organizations may be licensed to operate a unicom on the assigned frequency.

* * * * *

(f) At an airport where only one unicom may be licensed, when the Commission believes that the unicom has been abandoned or has ceased operation, another unicom may be licensed on an interim basis pending final determination of the status of the original unicom. An applicant for an interim license must notify the present licensee and must comply with the notice requirements of paragraph (g) of this section.

* * * * *

14. Amend § 87.263 by revising paragraphs (a)(1) and (c) to read as follows:

§ 87.263 Frequencies.

(a) * * *

(1) Frequencies in the 128.8125-132.125 MHz and 136.4875-137.00 MHz bands are available to serve domestic routes, except that the frequency 136.750 MHz is available only to aeronautical enroute stations located at least 288 kilometers (180 miles) from the Gulf of Mexico shoreline (outside the Gulf of Mexico region). The frequencies 136.900 MHz, 136.925 MHz, 136.950 MHz and 136.975 MHz are available to serve domestic and international routes. Frequency assignments may be based on either 8.33 kHz or 25 kHz spacing. Use of these frequencies must be compatible with existing operations and must be in accordance with pertinent international treaties and agreements.

* * * * *

(c) International VHF service. Frequencies in the 128.825-132.000 and 136.000-137.000 MHz bands are available to enroute stations serving international flight operations. Frequency assignments are based on either 8.33 kHz or 25 kHz channel spacing. Proposed operations must be compatible with existing operations in the band.

* * * * *

15. In 87.303, revise paragraph (b) and add a new paragraph (f) to read as follows:

§ 87.303 Frequencies.

* * * * *

(b) These additional frequencies are available for assignment only to flight test stations of aircraft manufacturers:

MHz | MHz | MHz | MHz
123.125 ² | 123.275 ³ | 123.425 ³ | 123.550 ³
123.150 ² | 123.325 ³ | 123.475 ³ | 123.575 ²
123.250 ³ | 123.350 ³ | 123.525 ³ |
¹ When R3E, H3E or J3E emission is used, the assigned frequency will be 3282.4 kHz (3281.0 kHz carrier frequency).
² This frequency is available only to itinerant stations that have a requirement to be periodically transferred to various locations.
³ Mobile station operations on these frequencies are limited to an area within 320 km (200 mi) of an associated flight test land station.

* * * * *

(f) Frequency assignments for Flight Test VHF Stations may be based on either 8.33 kHz or 25 kHz spacing. Assignable frequencies include the interstitial frequencies 8.33 kHz from the VHF frequencies listed in paragraphs (a) and (b) of this section. Each 8.33 kHz interstitial frequency is subject to the same eligibility criteria and limitations as the nearest frequency listed in paragraphs (a) and (b) of this section.

[FR Doc. 2011-4003 Filed 3-28-11; 8:45 am]

BILLING CODE 6712-01-P